DEPARTMENT OF THE TREASURY

Alcohol and Tobacco Tax and Trade Bureau

27 CFR Part 9

[Notice No. 50]

RIN 1513-AA82 thru 1513-AA88

Proposed Alta Mesa, Borden Ranch, Clements Hills, Cosumnes River, Jahant, Mokelumne River, and Sloughhouse Viticultural Areas

AGENCY: Alcohol and Tobacco Tax and Trade Bureau, Treasury.

ACTION: Notice of proposed rulemaking.

SUMMARY: The Alcohol and Tobacco Tax and Trade Bureau proposes to establish seven new viticultural areas within the boundary of the existing Lodi viticultural area, which lies within southern Sacramento and northern San Joaquin Counties in California. The seven proposed areas are Alta Mesa, Borden Ranch, Clements Hills, Cosumnes River, Jahant, Mokelumne River, and Sloughhouse. We designate viticultural areas to allow vintners to better describe the origin of their wines and to allow consumers to better identify wines they may purchase. We invite comments on these proposed additions to our regulations.

DATES: We must receive written comments on or before October 14, 2005.

ADDRESSES: You may send comments to any of the following addresses:

• Chief, Regulations and Procedures Division, Alcohol and Tobacco Tax and Trade Bureau, Attn: Notice No. 50, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N.A. Sutton, Alcohol and Tobacco Tax and Trade Bureau, Regulations and Procedures Division, 925 Lakeville St., No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

Lodi American Viticultural Areas Steering Committee Petitions

The Lodi American Viticultural Areas (LAVA) Steering Committee has petitioned TTB to establish seven new viticultural areas within the boundary of the existing Lodi viticultural area (27 CFR 9.107) in southern Sacramento and northern San Joaquin Counties in California. The seven LAVA Steering Committee petitions propose the creation of the Alta Mesa, Borden Ranch, Clements Hills, Cosumnes River, Jahant, Mokelumne River, and Sloughhouse viticultural areas. The 16 wine industry members that comprise the committee state that their proposal subdivides the existing Lodi area into “seven smaller viticultural areas of distinction.”

The establishment of the seven proposed viticultural areas would not in any way affect the existing 551,500-acre Lodi viticultural area. The Lodi area will continue as a single American viticultural area within its current boundary. However, TTB notes that the seven proposed areas fall entirely within the 458,000 acres within the original 1986 boundary of the Lodi viticultural area and thus, as proposed, would not include any of the 93,500 acres added to the Lodi area when it was expanded along its western and southern borders in 2002. (See T.D. ATF-223, published in the Federal Register on February 13, 1986 (51 FR 5324) for the Lodi viticultural area as originally defined. See T.D. ATF-482, published in the Federal Register on September 4, 2002 (67 FR 56481), for the Lodi area expansion in 2002.)

Proposed Viticultural Areas—Background

Location

The proposed Cosumnes River, Alta Mesa, and Sloughhouse viticultural areas lie, respectively, in the northwestern, north-central, and northeastern portions of the existing Lodi viticultural area and are entirely within Sacramento County. The proposed Clements Hills and Mokelumne River areas cover, respectively, the southeastern and southwestern portions of the existing Lodi viticultural area and are entirely within San Joaquin County. The proposed Borden Ranch and Jahant areas cover, respectively, the east-central and central portions of the existing Lodi viticultural area and lie in portions of both Sacramento and San Joaquin Counties.

The Cosumnes River flows southwest across the Sacramento County, portion of the Lodi viticultural area and crosses the proposed Sloughhouse, Alta Mesa and Cosumnes River viticultural areas. The Cosumnes River joins the Mokelumne River, which flows west, then northwest, through the San Joaquin County portion of the Lodi area. The Mokelumne River crosses the proposed Clements Hills and Mokelumne River viticultural areas, and forms a portion of the southwestern boundary of the proposed Jahant area. Neither river touches the proposed Borden Ranch viticultural area.

Summary of Distinguishing Features

According to the LAVA Steering Committee petition, climate data—such as temperature, precipitation, and wind patterns—outline the distinctive microclimates of the seven proposed viticultural areas. To varying degrees, the petition notes, the Lodi viticultural area's climate is affected by its inland San Joaquin valley location between the Sierra Nevada Range to the east and the Sacramento Delta, with its Pacific coast marine influence, to the west.

Differences in topography, elevation, and soils also help to distinguish the seven proposed areas from one another, according to the petition. In addition, the LAVA Committee uses the Storie Index (Huntington, 1992) to rate the agricultural potential of the soils within the seven proposed viticultural areas. This index ranges from 100 points for highly suitable soils to 0 points for unsuitable soils. The petition notes that Storie Index ratings for the seven proposed areas range from 95 to 15 points.

The table below lists the general features of each of the seven proposed viticultural areas as outlined in the LAVA Steering Committee petition:

Name of proposed viticultural area | Total acreage | Relative growing season length * | Storie (soil) index | Location within the Lodi viticultural area
Alta Mesa | 55,400 | 3 | 25-40 | north-central.
Borden Ranch | 70,000 | 2 | 15-30 | east-central.
Clements Hills | 85,400 | 2 | 15-30 | southeast.
Cosumnes River | 54,700 | 2 | 24-40 | northwest.
Jahant | 28,000 | 1 | 25-40 | central.
Mokelumne River | 85,700 | 1 | 80-95 | southwest.
Sloughhouse | 78,800 | 4 | 15-30 | northeast.
* 1 = coolest; 4 = warmest.

In addition, the LAVA Steering Committee petition provided an overview of each proposed area's grape-growing environment, which we outline in this table:

Proposed viticultural area | Description
Alta Mesa | Intermediate-elevation river terraces and fans; prairie environment; San Joaquin soil series of intermediate age; heavy, red, clay loams; slightly warmer and less windy climate than the lowlands to the west; primarily red grape varietals.
Borden Ranch | High elevations, very old river terraces and hills; oldest valley floor soils; vernal pools and prairie mound environment with high ridges; windy, and warmer, and wetter climate than lowlands to the west; primarily red grape varietals.
Clements Hills | High-elevation river terraces and hills with older soils and volcanic sediments; woodland environment; warmer and wetter climate than lowlands to the west; primarily red grape varietals.
Cosumnes River | Low-elevation meadows and riverbank woodland environment; diversity of young soils along floodplain and sloughs with patches of intermediate-age soils on river terraces and fans; cool and windy climate; primarily white grape varietals.
Jahant | Intermediate elevations with erosion, dissected river terraces and old floodplain deposits; soils are sandy at surface and older and cemented at sub-surface depths; cool and breezy climate; both red and white grape varietals.
Mokelumne River | Intermediate-to-low-elevation alluvial fan; prairie environment; distinctive soils; cool and windy climate; both red and white grape varietals.
Sloughhouse | High-elevation river terraces and low bedrock hills of the Sierra Range; older soils; woodland environment; warmer and wetter climate than the lowlands to the west; both red and white grape varietals.

The Seven Proposed Viticultural Areas

Below, we discuss the name and boundary evidence and distinguishing features for each of the seven viticultural areas proposed by the LAVA Steering Committee.

Alta Mesa

The proposed Alta Mesa viticultural area is located in Sacramento County in the north-central portion of the established Lodi viticultural area, approximately 21 miles south of the city of Sacramento and 13 miles north of the city of Lodi. The proposed area covers 55,400 acres, of which approximately 5,000 acres are planted to grapes, according to the LAVA Steering Committee petition. This irregularly shaped, five-sided area is 13.3 miles long north to south, and 8.3 miles wide at its widest point east to west. The Alta Mesa region's “tabletop” landform and the Joaquin soil series are the proposed area's distinctive and unifying features, the petition states.

Below, we summarize the evidence presented in the Alta Mesa petition.

Name Evidence

The petition explains that the name “Alta Mesa,” which means “high table” in Spanish, reflects California's history under Spanish-controlled Mexico. The petition states that local ranchers, farmers, and winemakers refer to this region within the existing Lodi viticultural area as “Alta Mesa,” and notes that the name is also used for places within the proposed viticultural area. The Alta Mesa Farm Bureau Hall, which is listed on the National Register of Historic Places, is on Alta Mesa Road, while the Alta Mesa Fair is held in Elk Grove and the Alta Mesa Dairy is in Wilton, both of which are within the proposed area's boundary.

The name “Alta Mesa” also appears four times on the USGS Sloughhouse map within the proposed viticultural area's boundaries. The map shows the 138-foot high Alta Mesa benchmark and the Alta Mesa Community Hall in section 9, and the Alta Mesa Gun Club in section 8, T6N, R7E. Alta Mesa Road runs along the northern and eastern boundaries of section 5, T6N, R7E, and continues onto the USGS Clay, California, map. The road serves as part of the Alta Mesa viticultural area's proposed eastern boundary.

Boundary Evidence

The Alta Mesa tabletop landform and the extent of the Joaquin soil series generally outline the boundary of the proposed Alta Mesa viticultural area, according to the petition. The petition explains that the American and Cosumnes Rivers have built up intermediate elevation river terraces and alluvial fans, which form the proposed area's tabletop or “mesa,” the elevation of which gently rises from approximately 35 feet in the west to 135 feet in the east.

The proposed Alta Mesa area's northern boundary coincides with the established Lodi viticultural area's boundary at Sheldon Road in Sacramento County. According to the petition, eroded terrain and a change in soil types mark the proposed area's southern boundary at the Dry Creek estuary. Changes in elevation from Alta Mesa's tabletop landform, the petition explains, mark the proposed area's eastern and western boundary lines. Also, the petition notes, the proposed area's western boundary marks a transition to the warmer climate of the proposed Cosumnes River viticultural area. In addition, the proposed Alta Mesa area is bordered on the east by the proposed Sloughhouse and Borden Ranch viticultural areas, and, to the south, by the proposed Jahant area.

Distinguishing Features

Topography

The proposed Alta Mesa viticultural area's tabletop or mesa-like landform is one of the area's most distinctive and unifying features, the petition states. The proposed Alta Mesa area sits on intermediate elevation river terraces and alluvial fans, and, despite some depressions and mounds, the area has a generally flat surface. This tabletop landform peaks at 138 feet in its northeast corner and gradually declines to 35 feet along its western side. To the east of the proposed Alta Mesa area, the Sierra Range foothills begin to rise within the proposed Sloughhouse viticultural area. To the proposed Alta Mesa area's immediate west, the proposed Cosumnes River viticultural area has lower elevations that almost dip to mean sea level. Deer Creek and the lower course of the Cosumnes River run parallel and southwest through the proposed area.

Soils

The San Joaquin soil series, which covers about 90 percent of the Alta Mesa region, is also a distinctive feature of the proposed viticultural area, the petition states. The petition explains that this soil series consists of dense, heavy clay that limits rooting depth and the need for irrigation. Classified as Abruptic Durixeralfs, the San Joaquin soils have high percentages of clay and gravel, and intensive reddening and cementation caused by silica, clay, and iron. This soil series has intermediate-age parent materials, 12,000 to 45,000 years old, from stage 2 of the late Pleistocene glacial age, making these some of the oldest soils within the established Lodi viticultural area, according to the petition.

The San Joaquin soil series, the petition emphasizes, creates a distinctive and beneficial viticultural environment in the proposed Alta Mesa viticultural area. The Storie Index, which rates soils from 0 to 100 points for potential agricultural use (100 being most suitable), places the Alta Mesa soils between 25 and 40 points of suitability.

Climate

The petition uses data from the Lodi, Sacramento, Folsom, and Camp Pardee weather stations, which are located close to the proposed Alta Mesa viticultural area. Climatically, the petition states, the proposed Alta Mesa area is a transitional region that is warmer than the other proposed viticultural areas within the existing Lodi viticultural area, except for Sloughhouse, which is further inland to the east of the proposed Alta Mesa area. The petition states that the proposed Alta Mesa area's mean annual temperature is 60.5 degrees Fahrenheit. The average growing season degree-day total * for the proposed Alta Mesa viticultural area, according to the petition, is more than 100 degree days over that of the cooler, proposed Cosumnes River viticultural area to its west and the proposed Borden Ranch and Clements Hills viticultural areas to its east and southeast. Also, the petition continues, the warmer Alta Mesa area is more than 200 degree days higher than the proposed Jahant and Mokelumne River viticultural areas to its south, which are closer to the Sacramento Delta's cooling winds.

* During the growing season, one degree day accumulates for each degree Fahrenheit that a day's average temperature is above 50 degrees, which is the minimum temperature required for grapevine growth. See “General Viticulture,” by Albert J. Winkler, University of California Press, 1974.

The sea breeze from the Pacific Ocean that funnels through the Carquinez Straits and the Sacramento Delta, the petition explains, cools the overall Lodi area. However, this natural air conditioning gradually decreases in intensity and disperses as it flows inland from west to east. As measured across the northern portion of the existing Lodi viticultural area from west to east, these marine winds are strongest in the proposed Cosumnes River viticultural area, less intense in the proposed Alta Mesa area, and weakest in the proposed Sloughhouse area.

Winter fog is also common in the proposed Alta Mesa viticultural area, the petition explains, due to seasonal standing water and cold-air drainage from the foothills to the east. This fog slightly decreases the Alta Mesa area's growing season degree-day total, according to the petition, by limiting the springtime heating of the soil and vines. In addition, the petition notes, the proposed Alta Mesa viticultural area's elevation provides a buffer between this fog from the west and the proposed Sloughhouse viticultural area to the east.

The average annual rain total in the proposed Alta Mesa viticultural area, according to petition evidence, is 18.5 inches. This amount, the petition notes, is less than the 23-inch annual average in Sloughhouse to the east and more than the 14 to 17.5-inch average in regions to Alta Mesa's immediate south.

Borden Ranch

The proposed Borden Ranch viticultural area is located in southern Sacramento and northern San Joaquin Counties in the east-central portion of the established Lodi viticultural area, approximately 27 miles southeast of the city of Sacramento and 13 miles north of the city of Lodi. Covering 70,000 acres, the petition notes that approximately 11,000 acres within the proposed Borden Ranch area are planted to grapes. Located between the Sierra Foothills to the east and the San Joaquin Valley to the west, the proposed area has a distinctive terrain of old alluvial fans, river terraces and plains, and high elevations, according to the LAVA Steering Committee petition.

Below, we summarize the evidence presented in the Borden Ranch petition.

Name Evidence

In 1864, Ivey Lewis Borden established the Borden Ranch in this area, and local residents have used the name ever since, according to the petition. For example, the petition notes an August 16, 1929, Stockton Daily Evening Record article reporting on a barn fire on the Borden Ranch that killed a famous horse. More recently, the Borden Ranch name appeared in a court case and related news media stories involving a developer who sued the U.S. Army Corps of Engineers over wetlands issues, and the petition included a January 6, 2003, Sacramento Business Journal article on the case.

The petition states that since the 1970s, when the Burton and Dedomenico families began the first major grape plantings within the proposed area, local residents have also come to know Borden Ranch for its grape growing. Since that time, the petition continues, Sutter Home, Mondavi, and Delicato have also planted vineyards in the proposed area. The petition also claims that between 1995 and 1996, the single largest vineyard expansion in California history occurred in this area.

In addition, the petition includes articles from the April 8, 2003, Stockton Record and the April 18, 2003, Modesto Bee that discuss recent vineyard development around Clay Station. Named for a popular stagecoach stop from the California Gold Rush days and located on the historic Borden Ranch, Clay Station is noted for its rich reddish clay soils and large stones, which provide for well-drained soil for grape growing, according to the Stockton Record article.

The petition also included statements from local residents regarding the use of the Borden Ranch name. For example, Jeff Sparrowk, a longtime Clements-area rancher, notes that the Borden Ranch is well known for its quality grazing land and vineyards. Robert Disch, a Borden Ranch-area farmer, states that Borden Ranch has become well known since vineyard development began there in the 1970s. He adds, “We are happy to see the notoriety of this region increasing and can declare that the Borden Ranch has a well-known history in our community.”

Wine industry publications have also taken notice of the Borden Ranch area, according to several articles supplied with the petition. An article titled “Lodi & the Sacramento Valley Vintage 2000” from the Wine Institute's “Harvest 2000” publication comments on the “enormous quality potential” of newer grape growing areas “such as Borden Ranch.” The Spring 2002 edition of the “V&E Trellis Wire,” a publication of the Department of Viticultural and Enology at the University of California-Davis, includes an article about a student field trip to the Lodi-Woodbridge wine region. The article describes the students' visit to the Borden Ranch, which it characterized as a 4,000-acre vineyard region.

Boundary Evidence

The proposed Borden Ranch viticultural area lies between the Sierra Range foothills to the east and the San Joaquin Valley to the west. The proposed area's northern and southern boundaries are based on two generally parallel streams—the Laguna, a tributary of the Cosumnes River, in the north, and Dry Creek, a tributary of the Mokelumne River, in the south. Both flow northeast to southwest from the Sierra Foothills to the San Joaquin Valley.

The stream deposits from the Laguna and Dry Creek are the distinguishing and unifying feature of the proposed Borden Ranch viticultural area, according to the petition. The proposed area's predominant geographical features are the high elevation, older river terraces and hills located within the watersheds of the Laguna and Dry Creek. These deposits and river terraces, the petition explains, extend from the Laguna in the north to near Liberty Road at the area's proposed southern boundary near Dry Creek. As a result, the proposed Borden Ranch area's northern boundary follows the path of the Laguna, while Dry Creek runs slightly north of the proposed area's southern boundary. The petition uses roads to mark the proposed area's eastern and western boundaries.

Distinguishing Features

Topography

As explained in the petition, the proposed Borden Ranch viticultural area has distinctive terrain due to its location between the Laguna and Dry Creek streams and its location at the base of the Sierra Foothills. The river terraces and stream deposits left by the Laguna and Dry Creek throughout the proposed Borden Ranch area are its distinguishing and unifying feature, according to the petition. The petition notes that the proposed area's lower, western elevations also have prairie mounds and vernal pools along these river terraces. Hills and ridges, which are the eroded remnants of very old river deposits, are found near the Sierra Foothills in the proposed area's higher eastern elevations. In addition, the petition states, the oldest alluvial fans in Sacramento and San Joaquin Counties are found in the eastern portion of the proposed area close to the Sierras.

The proposed Borden Ranch viticultural area inclines upward toward the Sierra Range, from 73 feet in elevation along its western boundary to 520 feet along its eastern border, a rise of 447 feet. While these elevations and rise are similar to the proposed Sloughhouse viticultural area to the north of the Borden Ranch area, the proposed Alta Mesa and Jahant areas to the west of Borden Ranch have peak elevations of only 137 feet and 105 feet, respectively. The existing Lodi viticultural area's eastern boundary also marks the eastern limit of the proposed Borden Ranch area—beyond which lies the higher elevations and more mountainous terrain of the Sierra Foothills.

Soils

The terrain within the proposed Borden Ranch viticultural area exceeds 700,000 years in age, and is distinctively older than the terrain found in the other six proposed Lodi viticultural areas, according to the petition. In addition, the petition notes, the oldest valley soils in the Lodi region are found on the tops of the terraces above the streams in the proposed Borden Ranch area. These old Durixeralfs soils, the petition states, include the Redding, Hicksville, Corning, and Yellowlark soil series.

In contrast, the petition states that the surface terrain in the proposed Sloughhouse viticultural area to the north of the Borden Ranch area and in the proposed Clements Hills viticultural area to its south is from 125,000 and 250,000 years old, respectively, to 700,000 years old. Additionally, the proposed Borden Ranch viticultural area's soils contain a large percentage of surface and below ground rock cobble, or stones, a feature unique to this area, according to the petition.

Climate

The petition incorporates data from the Lodi, Sacramento, Folsom, Camp Pardee, and Stockton weather stations, which are located near the proposed Borden Ranch viticultural area. The proposed Borden Ranch area, the petition notes, has a greater diversity of topographic-climatic vineyard sites than any of the other six areas proposed for establishment within the existing Lodi viticultural area. As the petition explains, vineyards within the proposed Borden Ranch area are found on hilltops or slopes, and in flat valley floors, facing different compass directions. These topographic variables, the petition states, are responsible for differences of sun, temperature, soil, water, and windiness in the vineyards.

The proposed Borden Ranch area, according to the petition, is windier, warmer, and wetter, than the lowland regions to its west. The combination of cooling Sacramento Delta breezes from the west and cold air drainage from the Sierra Foothills to the east, the petition explains, generates high wind intensity and duration in the proposed Borden Ranch area. The petition notes that this windswept environment, in conjunction with the area's hills and stony soils, creates high water evaporation conditions in the vineyards that lessen the vigor of the grapevine growth.

While the Borden Ranch area's growing season degree day total is similar to that of the other six proposed Lodi viticultural areas, its annual mean temperature of 60.4 degrees Fahrenheit is slightly warmer than the other six proposed areas, with the exception of the Sloughhouse area to its north. Annual rainfall in the Borden Ranch area is 20 inches, which is less than the 23 inches of the Sloughhouse area to the north, the petition states, with the other proposed Lodi viticultural areas averaging as low as 14 inches of annual rainfall.

Clements Hills

Located in northern San Joaquin County, the proposed Clements Hills viticultural area occupies much of the southeastern portion of the established Lodi viticultural area, approximately 41 miles southeast of Sacramento and 13 miles east of the city of Lodi. Covering 85,400 acres, of which approximately 16,000 acres are planted to grapes, the LAVA Steering Committee petition states that the proposed Clements Hills viticultural area is a hilly transitional region between the low, flat San Joaquin Valley floor to the west and the progressively higher Sierra Foothills to the east. The petition adds that the proposed area's high elevation river terraces and rounded hilltops distinguish it from surrounding grape-growing regions.

Below, we summarize the evidence presented in the Clements Hills petition.

Name Evidence

The small town of Clements is located in the northern portion of the proposed Clements Hills viticultural area and is shown on the USGS Clements map and on California highway maps. According to the petition, Thomas Clements, who had settled in the region in 1857, donated 25 acres of land in 1882 to develop the town as a stop on the San Joaquin and Sierra Nevada Railroad. Named for its benefactor, the town served as a shipping point for the region's grain, wool, hops, fruit, and other agricultural commodities.

The proposed “Clements Hills” viticultural area name combines the town's name with a reference to the proposed area's hilly terrain. Local residents, realtors, and members of the wine industry, the petition states, commonly use the Clements Hills name to refer to the land within the proposed area's boundaries. For example, realtor Tad Platt states that while marketing materials formerly referred to the “rolling hills of Clement,” the area has become better known simply as “Clements Hills” in recent years. Farmer Wesley Breitchenbucher and businessman Jeff Myers, whose families have lived in the Clements area for generations, also indicate that the proposed area is known as Clements Hills, according to the petition. The petition quotes Mr. Myers as stating that “the red, shallow soils of the Clements Hills” has attracted many vineyards and ranchette developments in the past decade. In addition, the petition notes the use of the Clements Hills name on the label of Vino Con Brio's 2001 Sangiovese wine.

Boundary Evidence

The high elevation river terraces and hills formed by the Mokelumne River, along with the region's older soils, distinguish the proposed Clements Hills area from surrounding areas, according to the petition. The Clements Hills area's proposed northern boundary, along Liberty Road, approximates the northern edge of the higher and older Mokelumne River terraces, the petition explains. The petition adds that, north of the proposed boundary, elevations decrease in the proposed Borden Ranch viticultural area due to the more eroded land found in the vicinity of Dry Creek.

The Clements Hills proposed eastern boundary follows the San Joaquin County line, separating the proposed area from the more mountainous Amador, Calaveras, and Stanislaus Counties. These county lines, according to the petition, mark the transition from the rolling hills of the Clements Hills region to the Sierra Foothills more mountainous environment.

The Clements Hills proposed southern boundary line follows the Calaveras River as it meanders west from the Sierra Foothills to the San Joaquin Valley. To the north of the Calaveras River, within the proposed area's boundaries, the terrain is made up primarily of hills from older Mokelumne River deposits, the petition explains. Also, the petition states, the Calaveras River's alluvial terrace and fan deposits become progressively younger as one moves south from the proposed area's southern boundary.

The Clements Hills proposed western boundary is along Jack Tone and Elliott roads. To the east of these roads within the proposed area, the petition explains, the terrain consists primarily of hilly deposits from the older alluvial terraces and fans. The petition adds that to the west of Jack Tone and Elliott roads beyond the Clements Hills area, the hilly terrain gives way to younger, sandier, and lower alluvial fan formations and eventually the flat San Joaquin valley floor.

Distinguishing Features

Topography

The proposed Clements Hills viticultural area is located between the flat, low elevations of the San Joaquin Valley floor to its west and the higher Sierra Foothills elevations to its east, according to the petition. Elevations within the proposed boundary area increase from a low of 90 feet on its western, San Joaquin Valley side to greater than 400 feet high at its eastern boundary line, according to the provided USGS maps. The petition also notes that the hilltops within the Clements Hills proposed viticultural area are distinctively convex and rounded. The Clements Hills, the petition states, contrast with the flat valley terrain to the west, the flat hilltops of the proposed Borden Ranch viticultural area to the north, and the more mountainous environment of the Sierras. Through time and weather, the petition adds, the bluffs and terraces of the Mokelumne River have become smooth topped, rolling hills that extend toward the proposed Clements Hills area's southern boundary at the Calaveras River.

Soils

The petition explains that the soils found within the proposed Clements Hills proposed viticultural area are old and primarily classified as Haploxerailfs, Durixeralfs, and Palexeralfs. These brown, red and yellow loams, clay loams, and clays, the petition states, principally belong to the Redding, Cometa, Yellowlark, and Montpellier soil series. Also, the petition notes, these low vigor soils have higher water holding capacities than the stony soils to the north in the proposed Borden Ranch viticultural area, but less than the loamy soils to the west in the proposed Mokelumne River area. Using a scale of 0 to 100, with 0 most unsuitable for agriculture and 100 most suitable, the Storie Index rates the soils in the proposed Clements Hills viticultural area at between 15 and 30, according to the petition.

Climate

Using data from the Lodi, Sacramento, Folsom, Stockton, and Camp Pardee weather stations, which are located close to the proposed Clements Hills viticultural area, the petition states that the proposed Clements Hills viticultural area is warmer and wetter than the regions to its west. While the mean annual temperature of the proposed Clements Hills viticultural area is 60.5 degrees Fahrenheit, which is similar to the other proposed Lodi viticultural areas, the Clements Hills area growing season annual degree-day total is approximately 100 degree days more than the proposed Mokelumne River and Jahant viticultural areas to the west, according to the petition.

The petition notes that fog is less frequent in the proposed Clements Hills viticultural area than in lower elevation, San Joaquin valley floor areas to its west and, therefore, the proposed area receives more hours of warming sunshine. Reduced winds also help warm the proposed Clements Hills area, according the petition. Although the proposed area receives consistent Sacramento Delta breezes, the hilly terrain of the proposed Clements Hills area, the petition notes, reduces the marine wind speed and movement across the proposed area. Air drainage from the higher slopes to the east, the petition adds, reduces frost occurrences in the proposed viticultural area as well.

Rainfall in the proposed Clements Hills viticultural area averages 21 to 22 inches annually, according to the petition, which is more than the lower elevation Jahant and Mokelumne River areas to its west and the Borden Ranch area to its north receive. The petition explains that the proposed Clements Hills area's hilly topography and its location just west of the Sierra Mountains bring more rain to the area since these higher elevations cause moisture-laden Pacific air to rise, forcing the air's moisture to condense and fall to the ground.

Cosumnes River

The proposed Cosumnes River viticultural area is in the northwestern portion of the existing Lodi viticultural area, approximately 20 miles south of the city of Sacramento and 14 miles north of the city of Lodi. Approximately 3,000 acres of the 54,700 acres within the proposed Cosumnes River viticultural area are currently planted to grapes, according to the petition. The climate of the proposed viticultural area, most notably a relatively cool and windy growing season, as well as its young, alluvial soils and low-elevation terrain distinguish the proposed area from surrounding areas, according to the petition.

Below, we summarize the evidence presented in the Cosumnes River petition.

Name Evidence

The May 2001 California State Automobile Association “Central California” map shows the Cosumnes River from its headwaters in the Sierra Range to its confluence with the Mokelumne River between Walnut Grove and Thornton, California. The lower portion of the river flows through the proposed Cosumnes River viticultural area. The USGS quadrangle maps for Bruceville, Elk Grove, and Galt, California, which are used to define portions of the proposed Cosumnes River viticultural area boundary, identify the Cosumnes River and show its northeast-to-southwest path through the proposed area. The LAVA Committee considered using the “Upper Cosumnes” and “Lower Cosumnes” names for the proposed “Sloughhouse” and “Cosumnes River” viticultural areas, respectively, but believes the proposed name choices are more appropriate.

As noted in the petition, the Cosumnes River name is associated with other places within the proposed viticultural area. For example, the Cosumnes River Preserve, located between Interstate Highways 5 and State Route 99 in southern Sacramento County, is also prominently shown on the California State Automobile Association's Central California map. The petition explains that this Nature Conservancy preserve, a 1,450-acre protected natural area and wildlife habitat, is in the heart of the proposed Cosumnes River viticultural area. Also, Cosumnes River College is located in the suburbs of Sacramento, just north of the proposed area's northern boundary.

Historically, the petition explains, the name “Cosumnes” comes from the Native American Miwok people's term for “salmon people.” The petition adds that an alternative Miwok translation is “the place of the koso berry.” John Sutter, an early settler, provides an 1841 written reference to the term “Cosumnes River,” the petition states, and 1845 and 1848 maps by John Fremont label this waterway as the “Cosumnes River.” The March 1, 1851, edition of the Stockton Times, in describing the region, states: “Some of the earlier settlements made in this country were along the Cosumnes”.

Boundary Evidence

The existing Lodi viticultural area boundary marks the limits of the proposed Cosumnes River viticultural area to the north and west. To the east, the proposed Cosumnes River viticultural area shares a boundary with the proposed Alta Mesa viticultural area, and, to the south, with the proposed Jahant and Mokelumne River viticultural areas. A portion of the Mokelumne River marks the proposed area's southern boundary line.

The proposed Cosumnes River viticultural area lies south of the city of Sacramento and borders the west side of the town of Galt. The proposed area primarily produces white wine grape varietals, as compared to red grape varietals in areas to the east and a mixture of red and white grape varietals in areas to the south.

Distinguishing Features

The relatively cool and windy growing season of the proposed Cosumnes River viticultural area, its young, alluvial soils, and its low-elevation terrain distinguish the proposed area from surrounding areas, according to the petition.

Topography

The petition explains that the proposed Cosumnes River viticultural area topography includes wetlands, natural and artificial levees, sloughs, streams, and the Cosumnes River. In addition, the Mokelumne River marks a portion of the area's southern boundary. A large alluvial fan crosses the proposed Cosumnes River viticultural area and slopes towards its southwest corner.

The low elevations found in the proposed Cosumnes River viticultural area distinguish it from the surrounding, higher-elevation areas, the petition states. At its southwestern corner, where the Cosumnes River joins the Mokelumne River, the elevation of the proposed Cosumnes River viticultural area dips to almost sea level. Elevations within the proposed area gradually rise to a high point of 48 feet at its southeast corner, according to the provided UGSS maps. In contrast, the petition notes, the proposed Alta Mesa viticultural area, to the east of the proposed Cosumnes River viticultural area, has elevations to 138 feet. To the south, the proposed Jahant viticultural area rises to 80 feet in elevation, and the proposed Mokelumne River viticultural area rises to 85 feet, according to the petition.

Soils

The proposed Cosumnes River viticultural area, the petition explains, is dominated by young, alluvial soils that distinguish it from the surrounding areas. The petition notes that 60 percent of the agricultural land within the proposed area is covered by a series of younger alluvial and organic soils, Xerothents and Histosols. These younger soils, the petition continues, predominate in the lower areas, including the floodplains, sloughs, and wetlands, and around the Cosumnes River and its tributaries along the western side of the proposed viticultural area. The intermediate-age, deep reddish, gravelly clay loam soils of the San Joaquin series cover the remaining 40 percent of the agricultural land within the proposed Cosumnes River viticultural area, according to the petition. These soils, classified as Abruptic Durixeralfs, have good water-holding capacity and moderate fertility.

To the east of the proposed Cosumnes River viticultural area, the proposed Alta Mesa viticultural area soils are of intermediate age, and about 90 percent of its soils are from the San Joaquin series, according to the petition. To the south, the proposed Jahant and Mokelumne River viticultural areas have a combination of young and intermediate in age soils. According to the petition, the Storie Index, which rates soils from 0 to 100 points for potential agricultural use, places the Cosumnes River soils at between 24 and 40 points for suitability.

Climate

The petition provides statistics and data from the Lodi, Sacramento, and Folsom weather stations, which are close to the proposed Cosumnes River viticultural area. Overall, according to the petition, the proposed Cosumnes River viticultural area has a cool and breezy climate.

The proposed Cosumnes River viticultural area has a mean annual growing season temperature of approximately 60 degrees Fahrenheit and intermediate level winds, the petition explains. The surrounding areas to the north and east are warmer and have less wind than the proposed Cosumnes River viticultural area, according to the petition. Also, to the south, the proposed Jahant and Mokelumne River viticultural areas are cooler and have stronger marine winds. The petition adds that the Pacific Ocean's cooling breezes funnel eastward through San Francisco's Golden Gate, the Carquinez Strait, and the Sacramento Delta to reach the Lodi area. These marine breezes cool the Lodi area's lower elevations, including the Cosumnes River floodplain and the areas to the river's south. The intensity and effect of these cooling winds, according to the petition, dissipate as they continue eastward over the proposed Cosumnes River viticultural area to the proposed Alta Mesa and Sloughhouse viticultural areas.

The petition states that maritime and inland fog is persistent in the low elevations of the proposed Cosumnes River viticultural area. This fog cools the proposed viticultural area more than the surrounding areas, which are less influenced by the maritime winds. The annual precipitation within the proposed Cosumnes area is 17.4 inches, according to the petition, which is more than the low elevation areas to its immediate south, but less than the high elevation regions to the north and east of the proposed viticultural area's boundaries.

Jahant

The proposed Jahant viticultural area is located in the center of the existing Lodi viticultural area, about 29 miles south of the city of Sacramento and 7 miles north of the city of Lodi. Currently, approximately 8,000 acres of the 28,000 acres within the proposed Jahant viticultural area are planted to grapes, according to the petition. The pink Jahant loam soil found in the proposed viticultural area is its most distinguishing characteristic, according to the petition, giving the Jahant area a unique grape-growing environment. Also, the petition notes that the proposed Jahant viticultural area's climate is cooler, dryer, and windier than most of the other proposed viticultural areas discussed in this notice. The petition adds that the terrain within the proposed Jahant viticultural area is noted for its river terraces and old floodplain deposits.

Below, we summarize the evidence presented in the Jahant petition.

Name Evidence

The “Jahant” name is associated with the central portion of the established Lodi viticultural area in southern Sacramento and northern San Joaquin Counties, according to the petition. The name comes from Peter Jahant and several of his brothers, all 1850s settlers to the area, the petition states. The Jahant family settled and successfully farmed in the Acampo area of the Lodi region, and, in 1912, Peter Jahant's son Charles planted 130 acres to grapes on the original family farm and on additional purchased land.

Jahant Slough and Jahant Road, a light-duty, east-west road, are shown on the Lodi North and Lockeford USGS maps, in the approximate center of the proposed Jahant viticultural area. Also, Jahant Road is shown in sections B-4, B-5, C-5, and C-6 of the Gold Country map, published in April 2002 by the California State Automobile Association. The Jahant Equestrian Center is on Jahant Road, and some area vineyards use Jahant in their names, according to the petition.

Boundary Evidence

The petition states that the unique pink Rocklin-Jahant loam soils found within the proposed Jahant viticultural area and the deep dissections through river deposits left by flooding within the past 20,000 years distinguish the proposed Jahant area from the surrounding proposed viticultural areas. To the south, the proposed Mokelumne River viticultural area has predominantly young, light colored sandy soils, the petition notes, while to the north, the proposed Alta Mesa viticultural area has predominantly intermediate age red soils. The petition states that the boundaries of the proposed Jahant viticultural area encompass the extent of the Jahant soils.

The petition also explains that dissected river terraces and old floodplain deposits, located between Dry Creek and the Mokelumne River, distinguish the proposed Jahant area from the surrounding areas. Dry Creek is part of the northern boundary of the proposed Jahant viticultural area, and the creek flows through its northwest section. The Mokelumne River forms the western boundary of the proposed Jahant area, close to where it joins with the Cosumnes River, according to the provided USGS maps.

Distinguishing Features

Topography

Elevations in the proposed Jahant viticultural area vary from about 10 feet to 100 feet, according to USGS maps of the area. Also, these elevations rise from the west to the east, increasing toward the Sierra Range. The proposed viticultural area, the petition explains, is dotted with small lakes, sloughs, rivers on the north and west sides, the larger Tracy Lake to the east, and a gas field in the southeast corner. The contours of the area, predominantly river terraces and old, eroded floodplain deposits, the petition continues, have developed from the actions of Dry Creek and the Mokelumne River.

Soils

The proposed Jahant viticultural area, located primarily between Dry Creek and the Mokelumne River, has distinctive pink Rocklin-Jahant soils that are principally sandy loams and sandy clay loams with massive structure, thickness, and hardened depth, the petition explains. The soils are classified as Mollic Pelexeralfs. These old soils, the petition continues, have younger sandy surfaces and are generally different in structure, thickness, and depth from the San Joaquin deep reddish, gravelly clay loam soils found north of the proposed Jahant viticultural area. To the south, the petition states, the light sandy loam Tokay and Acampo soils are young, deep and well drained, tend to be granular and crumbly, and of a fine texture without gravel, in contrast to the Jahant soils.

Climate

The petition provides statistics and data from the Lodi, Sacramento, Folsom, Camp Pardee, and Stockton weather stations, which are close to the proposed Cosumnes River viticultural area. The proposed Jahant viticultural area, the petition comments, has cool climatic characteristics similar to those of the proposed Mokelumne River viticultural area to the south. Both regions, according to the petition, receive the Pacific marine breezes that funnel east from the San Francisco Golden Gate, through the Carquinez Straights, the Sacramento Delta, and into the Lodi area. The petition also notes the cooling effect of persistent valley and coastal fog within the proposed boundaries.

The winds in the proposed Jahant viticultural area are of high intensity and prolonged duration, similar to those of the proposed Mokelumne River viticultural area to the south, the petition states. In contrast, to the north and northeast of the proposed Jahant area, the proposed Alta Mesa and Sloughhouse viticultural areas have less wind intensity and warmer temperatures, according to the petition.

The mean annual temperature of the proposed Jahant viticultural area is 60.1 degrees Fahrenheit, which is lower than the majority of other proposed viticultural areas discussed in this notice, according to the petition. Also, the growing season degree-day annual totals are between 100 and 400 degree days lower than other parts of the Lodi region, except for the proposed Mokelumne River viticultural area to the immediate south. Finally, the Jahant area's annual rainfall is 18.0 inches, which is less than rainfall totals in the other areas of the Lodi region with the exception of proposed Mokelumne River viticultural area.

Mokelumne River

The proposed Mokelumne River viticultural area is in northern San Joaquin County in the southwestern portion of the existing Lodi viticultural area. According to the petition, the proposed Mokelumne River viticultural area covers 85,700 acres, of which approximately 42,000 acres are vineyards. The young alluvial fan created by the Mokelumne River distinguishes the proposed Mokelumne River viticultural area from the surrounding areas, the petition states. In addition, the distinctively breezy climate of this proposed viticultural area is the coolest within the original Lodi viticultural area, according to the petition.

Below, we summarize the evidence presented in the Mokelumne River petition.

Name Evidence

Historically, the “Mokelumne” name is derived from the Miwok Indians and has been translated as “the place of the fish net,” according to the petition. Known earlier as the Rio Mokellemos, the present spelling of Mokelumne was set in 1848 by John C. Fremont, as documented in the “California Place Names,” by Erwin Gudde, published in 1960 by the University of California Press.

The Mokelumne River, which flows west from the Sierras into the San Joaquin Valley, is shown on a number of USGS maps, including the Lockeford, Lodi North, Bruceville, Thornton, Clements, and Wallace maps. Other maps also show the river, including the Gold Country map published by the California State Automobile Association in April 2002.

Boundary Evidence

The petition explains that the “classic, young” alluvial fan of the Mokelumne River extends east-to-west through the proposed Mokelumne River viticultural area. Given its distinctive geology and topography, the river's alluvial fan contrasts with the geology and topography of the other proposed viticultural areas discussed in this notice and the areas beyond. According to the petition, east of Jack Tone Road, beyond the proposed Mokelumne River viticultural area boundary line, are the older terrace deposits of the proposed Clements Hills viticultural area, while south of the proposed boundary, toward Linden and Farmington, the coarse deposits of the Calaveras River alluvial fan contrast with the sandy loam of the proposed Mokelumne River viticultural area. To the west of Interstate 5, and beyond the original Lodi viticultural area western boundary line, very young organic and inorganic soils dominate the Sacramento Delta region, according to the petition. To the north of the proposed Mokelumne River area boundary line are the older river deposits that distinguish the Jahant region.

Distinguishing Features

Topography

The Mokelumne River meanders through the northern portion of the proposed Mokelumne River viticultural area, while creeks, sloughs, a canal, and an aqueduct run through its interior. Also, the city of Lodi is located on the south bank of the Mokelumne River in the approximate center of the proposed viticultural area.

The topography of the proposed Mokelumne River viticultural area is dominated by a relatively young alluvial fan over an intermediate age fan, according to the petition. To the east, the fan joins with the older Mokelumne River terrace deposits along Jack Tone Road, which serves as part of the boundary line for proposed viticultural area, the petition notes. The Mokelumne River alluvial fan extends from the higher eastern elevations of the Clements region to the lower elevations along Interstate 5 and Eight Mile Road to the southwest, according to the provided USGS maps and the petition. The USGS maps of the proposed Mokelumne River viticultural area show elevations sloping downward to the west from a high of 100 feet at the northeast corner of the proposed area to a low of 5 feet at its southwest corner.

Soils

The petition explains that sandy loam Tokay and Acampo soils dominate the proposed Mokelumne River viticultural area. These soils are young, deep and drain well, according to the petition. Also, the soils tend to be granular and crumbly, of a fine texture and without gravel. The sandy loams in the region, the petition describes, are generally between 6 and 12 feet in depth with low moisture holding capacity, especially in the western portion of the proposed area.

Climate

The petition uses climate statistics and data from the Lodi weather station, which is located near the proposed Mokelumne River viticultural area. The climate of the proposed Mokelumne River viticultural area is the coolest within the existing Lodi viticultural area, the petition explains. The proposed Mokelumne River viticultural area, the petition continues, is the closest of the seven proposed Lodi viticultural areas to the Carquinez Straights that funnel Pacific Ocean breezes eastward from the Golden Gate, through the Sacramento Delta, to the Lodi area.

The winds in the proposed Mokelumne River viticultural area are of high intensity and prolonged duration, blowing more than 70 percent of the time, the petition states. The winds lose little intensity as they cross the low elevations and flat terrain within the proposed boundaries, according to the petition.

The mean annual temperature within the proposed Mokelumne viticultural area is 60.0 degrees Fahrenheit, which is lower than the other proposed viticultural areas discussed in this notice, according to the petition. Also, the growing season degree-day annual totals are between 50 and 450 degree days lower than those found in the other six proposed Lodi viticultural areas. Rainfall within the proposed Mokelumne River viticultural area is 17.57 inches, which is the lowest of the seven proposed viticultural areas discussed in this notice, the petition states.

Sloughhouse

The proposed Sloughhouse viticultural area is located in southern Sacramento County, approximately 21 miles southeast of the city of Sacramento and 22 miles north of the city of Lodi. Located in the northeastern portion of the existing Lodi viticultural area, approximately 7,000 acres within the 78,800-acre proposed Sloughhouse viticultural area are currently planted to grapes, according to the petition.

The petition states that warmer temperatures, more rain, less fog, higher elevations, and older soils distinguish the proposed Sloughhouse viticultural area from the other proposed viticultural areas discussed in this notice. The proposed Sloughhouse viticultural area, which is also adjacent to the established Sierra Foothills viticultural area (27 CFR 9.120), has rolling plains and hilly terrain that transitions to the Sierra Foothills further east, according to the petition.

Below, we summarize the evidence presented in the Sloughhouse petition.

Name Evidence

The Sacramento Bee newspaper published an article on January 19, 1998, detailing the history of the Sloughhouse region. In the 1850's the Sloughhouse Inn, which gave the region its name, was a popular stagecoach stop. According to the article, the building, rebuilt several times after fires, is a registered California historical landmark. Today, the Sloughhouse Inn is a restaurant. Modern usage of the Sloughhouse name, according to petition evidence, is also seen in the names of the Sloughhouse Resource Conservation District, the Sloughhouse Fire Protection District, and the Sloughhouse Area Genealogical Society.

The USGS Geographic Names Information System (GNIS) database lists “Sloughhouse” as a populated place in Sacramento County, California. The USGS Sloughhouse quadrangle map shows the hamlet of Sloughhouse along State Road 16 on the Township 7 and 8 North line, between Ranges 6 and 7 East. Sloughhouse Road, a secondary road, is shown on the USGS Elk Grove and Sloughhouse maps within the proposed viticultural area boundary lines.

Boundary Evidence

Warmer temperatures, less intense winds, more rainfall, and greater climatic variations distinguish the proposed Sloughhouse viticultural area from the surrounding areas within the Lodi region according to the petition. It adds that elevations within the proposed Sloughhouse viticultural area are generally higher and the soils older than the other surrounding proposed viticultural areas. The distinguishing Sloughhouse terrain and climatic characteristics, the petition explains, make this proposed viticultural area significantly different from the surrounding areas. Red varietals, including Cabernet Sauvignon, Cabernet Franc, Merlot, and Zinfandel, are popular in the Sloughhouse area as they can withstand drought and other climatic variations, the petition states.

The proposed Sloughhouse area's outer boundaries follow a portion of the existing Lodi viticultural area northern and eastern boundary lines, and the proposed area abuts the established Sierra Foothills viticultural area western boundary line. The petition explains that the shared Lodi and Sierra Foothills viticultural areas boundary line, which coincides with the Amador County line, is the logical division between the valley and mountain environments.

Distinguishing Features

Topography

The proposed Sloughhouse viticultural area, the petition states, has the most diverse terrain of the seven proposed viticultural areas discussed in this notice. Gently rolling hills, flat creek and river valleys, plains, and an alluvial fan characterize the proposed viticultural area, according to the petition.

The proposed Sloughhouse viticultural area ranges in elevation from a low of 73 feet in its southwest region to a high of 590 feet in its northeast region, according to the provided USGS maps. The northeast region of Sloughhouse, which has the highest elevations in the proposed area, slopes upward and becomes the bedrock-based foothills of the Sierra Range, the petition notes. These higher elevations are similar to Borden Ranch to the south, but contrast with the proposed Alta Mesa viticultural area to the west with its lower elevations of between 35 and 138 feet.

Three significant waterways, the Cosumnes River and its Deer Creek and Laguna tributaries flow west from the Sierra Foothills through the proposed Sloughhouse viticultural area. Deer Creek constitutes the northeastern boundary line of the proposed viticultural area, as noted in the petition's boundary description. Deer Creek, according to USGS maps, then meanders southwesterly through the interior of the proposed Sloughhouse area. The Cosumnes River runs roughly parallel to Deer Creek and through the approximate middle of the proposed Sloughhouse viticultural area. Deer Creek eventually joins the Cosumnes River to the west of the proposed viticultural area. The Laguna forms the south boundary line for the proposed Sloughhouse viticultural area and joins the Cosumnes River and Deer Creek to the west of the proposed area.

Soils

The petition notes that the predominant soils in the western portion of the proposed Sloughhouse viticultural area are found on an older alluvial fan. Classified as Durixeralfs and Haploxeralfs, the soils series found there include a complex of Redding, Corning, Pentz, and Hadlesville soils, which are generally of low vigor. Older soils, including patches of significantly older soils, are found in the higher eastern elevations of the proposed viticultural area. These older soils formed from sedimentary, metamorphic, and volcanic rock, including Sierra basement granite. Also, the Cosumnes River, Deer Creek, and the Laguna have left older river deposits within the proposed Sloughhouse viticultural area, according to the petition.

Climate

The petition uses statistics and data from the Lodi, Sacramento and especially the Folsom weather stations, located close to the proposed Sloughhouse viticultural area. The petition explains that the proposed Sloughhouse viticultural area has a climate distinguishable from the surrounding proposed viticultural areas due to its combination of warm growing season temperatures and heavy winter rains.

The Sloughhouse area, at 61.6 mean annual degrees Fahrenheit, is the warmest of the seven proposed viticultural areas within the established Lodi viticultural area, the petition states. The average growing season degree-day total of the Sloughhouse area, according to the petition, is more than 200 total degree days higher than the Alta Mesa area to the immediate west and 300 total degree days higher than the cooler Borden Ranch and Clements Hills areas to the south.

The proposed Sloughhouse viticultural area, the petition claims, has little marine sea breeze influence as compared to other proposed viticultural areas to the west, which are closer to the Sacramento Delta. Also, the Alta Mesa “table-top” landform, to the immediate west, acts as a buffer between the west-to-east marine breezes and the proposed Sloughhouse area.

The proposed Sloughhouse viticultural area receives more rain, 23-inches annually according to petition documentation, than the other proposed viticultural areas discussed in this notice. The petition states that to the west of the proposed Sloughhouse area, the proposed Alta Mesa viticultural area averages 18.5 inches annual rainfall, and, to the south, the proposed Borden Ranch viticultural area averages 20 inches annual rainfall. Also, other proposed viticultural areas discussed in this notice average as low as 14 inches of annual rainfall, the petition notes.

In addition, fog is less frequent in the proposed Sloughhouse viticultural area than in the adjacent lower elevation and cooler proposed Alta Mesa viticultural area to the west, the petition states. The upland environment, with less cooling marine influence and warmer temperatures, discourages the formation of fog.

Boundary Description

See the narrative boundary descriptions of the seven petitioned-for viticultural areas in the proposed regulatory texts published at the end of this notice.

Maps

The petitioner provided the required maps for the proposed seven viticultural areas, and we list them below in the appropriate proposed regulatory texts below.

Impact on Current Wine Labels

Part 4 of the TTB regulations prohibits any label reference on a wine that indicates or implies an origin other than the wine's true place of origin. If we establish the proposed “Jahant” or “Sloughhouse” viticultural areas, the name in question will be recognized as a name of viticultural significance. If we establish the proposed “Alta Mesa,” “Borden Ranch,” or “Clements Hills,” viticultural areas, the full name of the viticultural area in question will be recognized as a name of viticultural significance. On the other hand, we do not believe that any single part of these three proposed viticultural area names standing alone, such as “Mesa,” “Borden,” or “Clements” would have viticultural significance if we establish the viticultural area in question.

If we establish the proposed “Cosumnes River” or “Mokelumne River” viticultural areas, the full name of the viticultural area in question will be recognized as a name of viticultural significance. In addition, with the establishment of the Cosumnes River or Mokelumne River viticultural areas, the name “Cosumnes” or the name “Mokelumne” standing alone will be considered a term of viticultural significance because consumers and vintners could reasonably attribute the quality, reputation, or other characteristic of wine made from grapes grown in the proposed Cosumnes River or Mokelumne River viticultural area to the name Cosumnes or the name Mokelumne itself.

We note in this regard that a review of the information contained in the Geographic Names Information System maintained by the USGS, and a general search of relevant Internet Web sites reveal that the “Cosumnes” and “Mokelumne” names are not used in a variety of different geographic contexts throughout the United States but rather appear to apply in particular to the respective regions in California encompassed by the two proposed viticultural areas. See 27 CFR 4.39(i)(3), which also provides that a name has viticultural significance when determined by a TTB officer.

Therefore, the seven proposed 27 CFR part 9 section texts set forth in this notice specify, respectively, that “Alta Mesa,” “Borden Ranch,” “Clements Hills,” “Cosumnes River” and “Cosumnes” standing alone, “Jahant,” “Mokelumne River” and “Mokelumne” standing alone, and “Sloughhouse” are terms of viticultural significance for purposes of part 4 of the TTB regulations. Consequently, wine bottlers using any of those terms in a brand name, including a trademark, or in another label reference as to the origin of the wine, will have to ensure that the product is eligible to use the name of the viticultural area in question as an appellation of origin.

For a wine to be eligible to use as an appellation of origin, a viticultural area name or term specified as being viticulturally significant in part 9 of the TTB regulations, at least 85 percent of the grapes used to make the wine must have been grown within the area represented by that name or other term, and the wine must meet the other conditions listed in 27 CFR 4.25(e)(3). If the wine is not eligible to use as an appellation of origin, a viticultural area name or other viticulturally significant term that appears in the brand name, then the label is not in compliance and the bottler must change the brand name and obtain approval of a new label. Similarly, if the viticultural area name or other viticulturally significant term appears in another reference on the label in a misleading manner, the bottler would have to obtain approval of a new label. Accordingly, if a new label or a previously approved label uses one of the viticultural area names or other viticulturally significant terms identified above for a wine that does not meet the 85 percent standard, the new label will not be approved, and the previously approved label will be subject to revocation, once the viticultural area in question is approved.

Different rules apply if a wine has a brand name containing a viticultural area name that was used as a brand name on a label approved before July 7, 1986. See 27 CFR 4.39(i)(2) for details.

We also note that the establishment of any or all of these seven proposed viticultural areas will not affect the established Lodi viticultural area or approved labels using the “Lodi” name.

Public Participation

Comments Invited

We invite comments from interested members of the public on whether we should establish any or all of the seven proposed viticultural areas within the existing Lodi viticultural area. We are also interested in receiving comments on the sufficiency and accuracy of the names, climactic, boundary, and other required information submitted in support of the petitions. Please provide any available specific information in support of your comments. Also, please identify the specific proposed viticultural area or areas that your comments concern.

Because of the potential impact of the establishment of the seven proposed viticultural areas on brand labels that include the words “Alta Mesa,” “Borden Ranch,” “Clements Hills,” “Cosumnes River” (or “Cosumnes” alone), “Jahant,” “Mokelumne River” (or “Mokelumne” alone), or “Sloughhouse,” as discussed above under Impact on Current Wine Labels, we are particularly interested in comments regarding whether there will be a conflict between any of the proposed areas names and currently used brand names. If a commenter believes that a conflict will arise, the comment should describe the nature of that conflict, including any negative economic impact that approval of the proposed viticultural area in question will have on an existing viticultural enterprise. We are also interested in receiving suggestions for ways to avoid any conflicts, for example, by adopting modified or different names for the viticultural area.

Submitting Comments

Please submit your comments by the closing date shown above in this notice. Your comments must include this notice number and your name and mailing address. In addition, please identify the specific proposed viticultural area or areas that your comments concern. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- × 11-inch page. Contact our librarian at the above address or by telephone at 202-927-2400 to schedule an appointment or to request copies of comments.

For your convenience, we will post this notice and any comments we receive on this proposal on the TTB Web site. We may omit voluminous attachments or material that we consider unsuitable for posting. In all cases, the full comment will be available in the TTB Library. To access the online copy of this notice and any submitted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N. A. Sutton and M.D. Hoover of the Regulations and Procedures Division drafted this notice.

List of Subjects in 27 CFR Part 9

Wine.

Proposed Regulatory Amendment

For the reasons discussed in the preamble, we propose to amend 27 CFR, chapter I, part 9, as follows:

PART 9—AMERICAN VITICULTURAL AREAS

1. The authority citation for part 9 continues to read as follows:

Authority: 27 U.S.C. 205.

2. Amend subpart C by adding § 9.__ through § 9.__ to read as follows:

Subpart C—American Viticultural Areas

§ 9.__ Alta Mesa.

(a) Name. The name of the viticultural area described in this section is “Alta Mesa”. For purposes of part 4 of this chapter, “Alta Mesa” is a term of viticultural significance.

(b) Approved maps. The seven USGS, 1:24,000 scale, topographic quadrangle maps used to determine the boundaries of the Alta Mesa viticultural area are titled—

(1) North Lodi, Calif., 1968, photorevised 1976;

(2) Galt, Calif., 1968, photorevised 1980;

(3) Florin, Calif., 1968, photorevised 1980;

(4) Elk Grove, Calif., 1968, photorevised 1979;

(5) Sloughhouse, Calif., 1968, photorevised 1980, minor revision 1993;

(6) Clay, Calif., 1968, photorevised 1980, minor revision 1993; and

(7) Lockeford, Calif., 1968, photorevised 1979, minor revision 1993.

(c) Boundary. The Alta Mesa viticultural area is located in Sacramento County, California, and is entirely within the Lodi viticultural area (27 CFR 9.107). The Alta Mesa viticultural area boundary is as follows:

(1) The beginning point is on the Lodi North map at the intersection of Kost Road and the Southern Pacific railway, section 34, T5N, R6E. From this point, proceed north-northwest 8.7 miles along the Southern Pacific railway to its intersection with State Route 99 at McConnel, section 20, T6N, R6E (Galt Quadrangle), then

(2) Proceed northwest 4.7 miles on State Route 99 to its intersection with Sheldon Road at the northern boundary of section 26, T7N, R5E (Florin Quadrangle); then

(3) Proceed east 5.2 miles on Sheldon Road to its intersection with the Central California Traction railroad at the northern boundary of section 27, T7N, R6E (Elk Grove Quadrangle); then

(4) Proceed southeast 3.85 miles along the Central California Traction railroad to Grant Line Road, then southwest on Grant Line Road to Wilton Road at the hamlet of Sheldon, and then continue southeast on Wilton Road to its intersection with Dillard Road, section 6, T6N, R7E (Elk Grove Quadrangle); then

(5) Proceed northeast 2.6 miles on Dillard Road to its intersection with Lee Shorthorn Road, T7N, R7E (Sloughhouse Quadrangle); then

(6) Proceed southeast 0.9 mile on Lee Shorthorn Road to its intersection with Tavernor Road, T7N, R7E (Sloughhouse Quadrangle); then

(7) Proceed south 0.95 mile on Tavernor Road to its first 90 degree turn to the west (where two unimproved roads join Tavernor Road from the east and south), section 4, T6N, R7E (Sloughhouse Quadrangle); then

(8) Continue due south 1 mile in a straight line to the line's intersection with the 105-foot contour line and an unimproved extension of Blake Road, section 9, T6N, R7E (Sloughhouse Quadrangle);

(9) Proceed west 0.3 mile on the unimproved extension of Blake Road to its intersection with Tavernor Road, section 9, T6N, R7E (Sloughhouse Quadrangle); then

(10) Proceed south 0.7 mile on Tavernor Road to the center of the loop at the end of the road, section 16, T6N, R7E (Sloughhouse Quadrangle); then

(11) Proceed southwest in a straight line for 0.1 mile to the line's intersection with the east end of the landing strip shown in the northwest quadrant of section 16, T6N, R7E (Sloughhouse Quadrangle); then

(12) Proceed west along the landing strip and a line extending from its western end to the line's intersection with Alta Mesa Road on the eastern boundary of section 17, T6N, R7E (Sloughhouse Quadrangle); then

(13) Proceed south 6.1 miles on Alta Mesa Road, crossing State Route 104, to Alta Mesa Road's intersection with Borden Road at the southwest corner of section 9, T5N, R7E (Clay Quadrangle); then

(14) Proceed east 1 mile on Borden Road to its intersection with Alabama Road at the southeast corner of section 9, T5N, R7E (Clay Quadrangle); then

(15) Proceed south 2 miles on Alabama Road to its intersection with Simmerhorn Road at the southeast corner of section 21, T5N, R7E (Clay Quadrangle); then

(16) Proceed east 2 miles on Simmerhorn Road to its intersection with Clay Station Road at the northeast corner of section 26, T5N, R7E (Clay Quadrangle); then

(17) Proceed south 0.5 mile on Clay Station Road to its intersection with Dry Creek, section 26, T5N, R7E (Clay Quadrangle); then

(18) Proceed west-southwest (downstream) 7.8 miles along Dry Creek, crossing over the northwest corner of the Lockeford map, and twice crossing over the southeast corner of the Galt map, to Dry Creek's intersection with Lincoln Way, section 35, T5N, R6E (Lodi North Quadrangle); then

(19) Proceed northwest 0.1 mile on Lincoln Way to its intersection with Kost Road, section 35, T5N, R6E (Lodi North Quadrangle); and

(20) Proceed west 0.3 mile on Kost Road and return to the beginning point at the intersection of Kost Road and the Southern Pacific railway, returning to the beginning point.

§ 9.__ Borden Ranch.

(a) Name. The name of the viticultural area described in this section is “Borden Ranch”. For purposes of part 4 of this chapter, “Borden Ranch” is a term of viticultural significance.

(b) Approved maps. The six USGS, 1:24,000 scale, topographic quadrangle maps used to determine the boundaries of the Borden Ranch viticultural area are titled—

(1) Lockeford, Calif., 1968, photorevised 1979, minor revision 1993;

(2) Clay, Calif., 1968, photorevised 1980, minor revision 1993;

(3) Sloughhouse, Calif., 1968, photorevised 1980, minor revision 1993;

(4) Carbondale, Calif., 1968, photorevised 1980, minor revision 1993;

(5) Goose Creek, Calif., 1968, photorevised 1980, minor revision 1993; and

(6) Clements, Calif., 1968, minor revision 1993.

(c) Boundary. The Borden Ranch viticultural area is located in Sacramento and San Joaquin Counties, California, and is entirely within the Lodi viticultural area (27 CFR 9.107). The Borden Ranch viticultural area boundary is as follows:

(1) The beginning point is on the Lockeford map at the intersection of Liberty Road and Elliott Road at the southwest corner of section 36, T5N, R7E. From the beginning point, proceed north 2 miles on Elliot Road, which becomes Clay Station Road upon crossing the Sacramento-San Joaquin County line at Dry Creek, to Clay Station Road's intersection with Simmerhorn Road, at the southeast corner of section 23, T5N, R7E (Clay Quadrangle); then

(2) Proceed west 2 miles on Simmerhorn Road to its intersection with Alabama Road at the southwest corner of section 22, T5N, R7E (Clay Quadrangle); then

(3) Proceed north 2 miles on Alabama Road to its intersection with Borden Road at the northwest corner of section 15, T5N, R7E (Clay Quadrangle); then

(4) Proceed west 1 mile on Borden Road to its intersection with Alta Mesa Road at the southwest corner of section 9, T5N, R7E (Clay Quadrangle); then

(5) Proceed north 1.35 miles on Alta Mesa Road, crossing State Route 104, to Alta Mesa Road's intersection with the Laguna tributary along the western boundary line of section 4, T5N, R7E (Clay Quadrangle); then

(6) Proceed easterly (upstream) about 16.5 miles along the meandering Laguna tributary, crossing over the southeast corner of the Sloughhouse map, to the Laguna's intersection with the Sacramento-Amador County line, 0.75 mile south of the Ione Road, T6N, R9E (Carbondale Quadrangle); then

(7) Proceed south and then southeast about 10.8 miles along the Sacramento-Amador and Sacramento-San Joaquin County lines, crossing over the Goose Creek map, to the County line's intersection with Liberty Road, section 32, T5N, R9E (Clements Quadrangle); and

(8) Proceed west about 9.3 miles west along Liberty Road to its intersection with Elliott Road, returning to the beginning point.

§ 9.__ Clements Hills.

(a) Name. The name of the viticultural area described in this section is “Clements Hills”. For purposes of part 4 of this chapter, “Clements Hills” is a term of viticultural significance.

(b) Approved maps. The six USGS 1:24,000 scale, topographic quadrangle maps used to determine the boundaries of the Clements Hills viticultural area are titled—

(1) Waterloo, Calif., 1968, photoinspected 1978;

(2) Lockeford, Calif., 1968, photorevised 1979, minor revision 1993;

(3) Clements, Calif., 1968, minor revision 1993;

(4) Wallace, Calif., 1962;

(5) Valley Springs SW., Calif., 1962, photoinspected 1973; and

(6) Linden, Calif., 1968, minor revision 1993.

(c) Boundary. The Clements Hills viticultural area is located in San Joaquin County, California, and is entirely within the Lodi viticultural area (27 CFR 9.107). The Clements Hills viticultural areas boundary is as follows—

(1) The beginning point is on the Waterloo map at the intersection of the Calaveras River and Jack Tone Road, section 31 west boundary line, T3N, R8E. From that point, proceed north 6.9 miles on Jack Tone Road to its intersection with Elliot Road in the village of Lockeford (where Jack Tone Road is known as E. Hammond Street for a short distance), section 30, T4N, R8E (Lockeford Quadrangle); then

(2) Proceed northwest 5.4 miles on Elliott Road, crossing the Mokelumne River, to Elliott Road's intersection with Liberty Road at the northwest corner of section 1, T4N, R7E, (Lockeford Quadrangle); then

(3) Proceed east 9.3 miles on Liberty Road to its junction with the San Joaquin-Amador County line, north of the Camanche Reservoir, section 32, T5N, R9E (Clements Quadrangle); then

(4) Proceed south-southeast 13 miles along the San Joaquin-Amador and San Joaquin-Calaveras County lines, crossing over the Wallace map, to the County line's intersection with the Calaveras River, section 31, T3N, R10E (Valley Springs SW. Quadrangle); and

(5) Proceed southwest (downstream) 14.2 miles along the Calaveras River, crossing over the Linden map, to the river's intersection with Jack Tone Road, returning to the beginning point.

§ 9.__ Cosumnes River.

(a) Name. The name of the viticultural area described in this section is “Cosumnes River”. For purposes of part 4 of this chapter, “Cosumnes River” and “Cosumnes” are terms of viticultural significance.

(b) Approved maps. The six USGS, 1:24,000 scale, topographic quadrangle maps used to determine the boundaries of the Cosumnes River viticultural area are titled—

(1) Bruceville, Calif., 1968, photorevised 1980;

(2) Florin, Calif., 1968, photorevised 1980;

(3) Elk Grove, Calif., 1968, photorevised 1979;

(4) Galt, Calif., 1968, photorevised 1980;

(5) Lodi North, Calif., 1968, photorevised 1976; and

(6) Thornton, Calif., 1978.

(c) Boundary. The Cosumnes River viticultural area is located in Sacramento County, California, and is entirely within the Lodi viticultural area (27 CFR 9.107). The Cosumnes River viticultural area boundary is as follows—

(1) The beginning point is on the Bruceville map at the intersection of the Mokelumne River and Interstate Highway 5, T5N, R5E. From that point, north 8.5 miles along Interstate 5 to its intersection with an unnamed light duty road, locally known to the west of Franklin as Hood-Franklin Road, section 18, T6N, R5E (Florin Quadrangle); then

(2) Proceed east 1.2 miles straight on Hood-Franklin Road to its intersection with Franklin Boulevard in the village of Franklin, section 17, T6N, R5E (Florin Quadrangle); then

(3) Proceed north 4.3 miles on Franklin Boulevard to its intersection with Sims Road on the west and Sheldon Road to the east at the northwest corner of section 28, T7N, R5E (Florin Quadrangle); then

(4) Proceed east 2.4 miles on Sheldon Road to its intersection with State Route 99 at the northern boundary section 26, T7N, R5E (Florin Quadrangle); then

(5) Then proceed south-southeast 6 miles on State Route 99, crossing over the Elk Grove map, to the road's intersection with the Southern Pacific railway line at McConnell, section 20, T6N, R6E (Galt Quadrangle); then

(6) Proceed south-southeast 8.7 miles along the Southern Pacific railway line to its intersection with Kost Road, section 34, T5N, R6E (Lodi North Quadrangle); then

(7) Proceed west and then north 3.8 miles on Kost Road to its intersection with New Hope Road, T5N, R6E (Lodi North Quadrangle); then

(8) Proceed west then south 2.8 miles on New Hope Road to its intersection with the Mokelumne River and the Sacramento-San Joaquin County line, T5N, R5E (Thornton Quadrangle); and

(9) Proceed northerly then westerly (downstream) for about 2.7 miles along the meandering Mokelumne River to its intersection with Interstate 5, returning to the beginning point.

§ 9.__ Jahant.

(a) Name. The name of the viticultural area described in this section is “Jahant”. For purposes of part 4 of this chapter, “Jahant” is a term of viticultural significance.

(b) Approved maps. The five USGS, 1:24000 scale, topographic quadrangle maps used to determine the boundaries of the Jahant viticultural area are titled—

(1) Lodi North, Calif., 1968, photorevised 1976;

(2) Thornton, Calif., 1978;

(3) Galt, Calif., 1968, photorevised 1980;

(4) Lockeford, Calif., 1968, photorevised 1979; and

(5) Clay, Calif., 1968, photorevised 1980, minor revision 1993.

(c) Boundary. The Jahant viticultural area is located in Sacramento and San Joaquin Counties, California, and is entirely with the Lodi viticultural area (27 CFR 9.107). The Jahant viticultural area boundary is as follows—

(1) The beginning point is on the Lodi North map at the intersection of Peltier Road and the Mokelumne River, section 16 south boundary line, T4N, R6E. From the beginning point, proceed westerly (downstream) 6.7 miles along the Mokelumne River to its intersection with New Hope Road, about 0.7 mile north of the village of Thornton, T5N, R5E (Thornton Quadrangle); then

(2) Proceed north then east for 3 miles on New Hope Road to its intersection with Kost Road, T5N, R6E (Lodi North Quadrangle); then

(3) Proceed south then east for 4.1 miles on Kost Road to its intersection with Lincoln Way, section 35, T5N, R6E (Lodi North Quadrangle); then

(4) Proceed southeast 0.15 mile on Lincoln Way to its intersection with Dry Creek, section 35, T5N, R6E (Lodi North Quadrangle); then

(5) Proceed easterly (upstream) 7 miles along Dry Creek, crossing twice over and back at the southeast corner of the Galt map, and then crossing over the northwest corner of the Lockeford map, to Dry Creek's intersection with Elliott Road, section 26, T5N, R7E (Clay Quadrangle); then

(6) Proceed south 4.5 miles on Elliott Road to its intersection with Peltier Road at the southeast corner of section 14, T4N, R7E (Lockeford Quadrangle); and

(7) Proceed west 8.3 miles on Peltier Road to its intersection with the Mokelumne River, returning to the beginning point.

§ 9.__ Mokelumne River.

(a) Name. The name of the viticultural area described in this section is “Mokelumne River”. For purposes of part 4 of this chapter, “Mokelumne River” and “Mokelumne” are terms of viticultural significance.

(b) Approved maps. The seven USGS, 1:24,000 scale, topographic quadrangle maps used to determine the boundaries of the Mokelumne River viticultural area are titled—

(1) Lodi South, Calif., 1968, photorevised 1976;

(2) Terminous, Calif., 1978, minor revision 1993;

(3) Thornton, Calif., 1978;

(4) Bruceville, Calif., 1968, photorevised 1980;

(5) Lodi North, Calif., 1968, photorevised 1976;

(6) Lockeford, Calif., 1968, photorevised 1979, minor revision 1993; and

(7) Waterloo, Calif., edition of 1968, photoinspected 1978.

(c) Boundary. The Mokelumne River viticultural area is located in San Joaquin County, California, and is entirely within the Lodi viticultural area (27 CFR 9.107). The Mokelumne River viticultural area boundary is as follows—

(1) The beginning point is on the Lodi South map at the intersection of Eightmile Road and Interstate 5, section 36 south boundary line, T3N, R5E. From the beginning point, proceed north-northwest 14.7 miles on Interstate 5, crossing over the Terminous and Thornton maps, to the Interstate's intersection with the Mokelumne River, T5N, R6E (Bruceville Quadrangle); then

(2) Proceed southeast (upstream) 5 miles along the meandering Mokelumne River to its intersection with Peltier Road, section 16, T4N, R6E (Lodi North Quadrangle); then

(3) Proceed east 8.3 miles along Peltier Road to its intersection with Elliott Road at the northeast corner of section 23, T4N, R7E (Lockeford Quadrangle); then

(4) Proceed south then southeast 2.3 miles on Elliott Road to its intersection with Jack Tone Road in the village of Lockeford (where Jack Tone Road is known as E. Hammond Street for a short distance), section 30, T4N, R8E (Lockeford Quadrangle); then

(5) Proceed south 6.7 miles on Jack Tone Road to its intersection with the Calaveras River, section 36 east boundary line, T3N, R7E (Waterloo Quadrangle); then

(6) Proceed southwesterly (downstream) 0.9 mile along the meandering Calaveras River to its intersection with Eightmile Road, section 36 south boundary line, T3N, R7E (Waterloo Quadrangle); and

(7) Proceed west 8.6 miles on Eightmile Road to its intersection with Interstate 5, returning to the beginning point.

§ 9.__ Sloughhouse.

(a) Name. The name of the viticultural area described in this section is “Sloughhouse”. For purposes of part 4 of this chapter, “Sloughhouse” is a term of viticultural significance.

(b) Approved maps. The six USGS, 1:24,000 scale, topographic quadrangle maps used to determine the boundaries of the Sloughhouse viticultural area are titled—

(1) Clay, Calif., 1968, photorevised 1980, minor revision 1993;

(2) Sloughhouse, Calif., 1968, photorevised 1980, minor revision 1993;

(3) Elk Grove, Calif., 1968, photorevised 1979;

(4) Buffalo Creek, Calif., 1967, photorevised 1980;

(5) Folsom SE, Calif., 1954, photorevised 1980; and

(6) Carbondale, Calif., 1968, photorevised 1980, minor revision 1993.

(c) Boundary. The Sloughhouse viticultural area is located in Sacramento County, California, and is entirely within the Lodi viticultural area (27 CFR 9.107). The Sloughhouse viticultural area boundary is as follows—

(1) The beginning point is on the Clay map at the intersection of the Laguna estuary and Alta Mesa Road, on the western boundary of section 4, T5N, R7E. From the beginning point, proceed north 4.8 miles on Alta Mesa Road to the road's intersection with a line drawn due west from the western end of the landing strip shown in the northwestern quadrant of section 16, T6N, R7E (Sloughhouse Quadrangle); then

(2) Proceed east 0.5 mile east to the eastern end of the landing strip, section 16, T6N, R7E (Sloughhouse Quadrangle); then

(3) Proceed northeast in a straight line 0.1 mile to the center of the loop at the south end of Tavernor Road, section 16, T6N, R7E (Sloughhouse Quadrangle); then

(4) Proceed north 0.75 mile on Tavernor Road to its intersection with Blake Road, section 9, T6N, R7E (Sloughhouse Quadrangle); then

(5) Proceed east 0.5 mile on the unimproved extension of Blake Road to its intersection with the 105-foot elevation line, section 9, T6N, R7E (Sloughhouse Quadrangle); then

(6) Proceed due north about 0.85 mile to the 90 degree turn in Tavernor Road and continue north about 0.9 mile on Tavernor Road to its intersection with Lee Shorthorn Road, T7N, R7E, (Sloughhouse Quadrangle); then

(7) Proceed northwest 0.9 mile on Lee Shorthorn Road to intersection with Dillard Road, T7N, R7E (Sloughhouse Quadrangle); then

(8) Proceed southwest about 2.6 miles on Dillard Road to its intersection with Wilton Road at the hamlet of Dillard, section 6, T6N, R7E (Elk Grove Quadrangle); then

(9) Proceed northwest 3.1 miles on Wilton Road to its intersection with Grant Line Road at the hamlet of Sheldon, section 27, T7N, R6E (Elk Grove Quadrangle); then

(10) Proceed northwest on Grant Line Road to its intersection with State Route 16 (Jackson Road), section 33, T8N, R7E (Buffalo Creek Quadrangle); then

(11) Proceed east-southeast 1.6 miles on State Route 16 to its intersection with Deer Creek at BM 108 near Sloughhouse, T8N, R7E (Sloughhouse Quadrangle); then

(12) Proceed northeasterly (upstream) about 11 miles along the meandering Deer Creek, crossing over the southeast corner of the Buffalo Creek map, to the creek's intersection with the Sacramento-El Dorado County line, section 1, T8N, R8E (Folsom, S.E. Quadrangle); then

(13) Proceed south-southeast followed by south for about 12.4 miles along the Sacramento-El Dorado and Sacramento-Amador County line to the County line's intersection with the Laguna estuary, 0.75 mile south of the Ione Road, T6N, R9E (Carbondale Quadrangle); and

(14) Proceed westerly (downstream) 17.5 miles along the meandering Laguna, crossing over the Sloughhouse map, returning to the beginning point at the intersection of the Laguna estuary and Alta Mesa Road, section 4, T5N, R7E. (Clay Quadrangle).

Signed: July 22, 2005.
John J. Manfreda,
Administrator.

[FR Doc. 05-16132 Filed 8-12-05; 8:45 am]

BILLING CODE 4810-31-P